COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add services to the Procurement List that will be provided by nonprofit agencies employing persons who are blind or have other severe disabilities, and deletes products previously furnished by such agencies.

DATES: Comments must be received on or before—1/22/2017.

ADDRESSES: Committee for Purchase From People Who Are Blind or Severely Disabled, 1401 S. Clark Street, Suite 715, Arlington, Virginia 22202-4149.

FOR FURTHER INFORMATION CONTACT: Barry Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the services listed below from nonprofit agencies employing persons who are blind or have other severe disabilities.

The following services are proposed for addition to the Procurement List for production by the nonprofit agencies listed:

Services

Service Type: Sustainment, Restoration, and Modernization (SRM) Service

Mandatory for: US Army, DPW, Fort Riley, KS (excluding Residential Housing Areas and including Forbes Air Field, Topeka, KS), Fort Riley, KS

Mandatory Source(s) of Supply: Skookum Educational Programs, Bremerton, WA

Contracting Activity: US Army Corps of Engineers, Huntsville Engineering & Support Center, Huntsville, AL

Service Type: Janitorial Service and Grounds Maintenance Service

Mandatory for: Federal Aviation Administration, Flight Inspection Field Office, 4185 Martin Luther King Jr. Drive, Atlanta, GA

Mandatory Source(s) of Supply: Bobby Dodd Institute, Inc., Atlanta, GA

Contracting Activity: Dept of Transportation, Federal Aviation Administration

Service Type: Mail and Courier Service

Mandatory for: US Customs and Border Protection, New York Field Office Mail Room, One World Trade Center, 285 Fulton Street, New York, NY

Mandatory Source(s) of Supply: The Corporate Source, Inc., New York, NY

Contracting Activity: U.S. Customs and Border Protection, Border Enforcement Center Div

Service Type: Base Operations Support Service

Mandatory for: Naval Facilities Engineering Command Northwest, North Sound Facilities, 1101 Tautog Circle, Silverdale, WA

Mandatory Source(s) of Supply: Skookum Educational Programs, Bremerton, WA

Contracting Activity: Dept of the Navy, NAVFAC NORTHWEST

Deletions

The following products are proposed for deletion from the Procurement List:

Products

NSN(s)—Product Name(s): 2510-00-535-6797—Side Rack, Vehicle

2510-00-571-6968—Side Rack, Vehicle

2510-00-860-0517—Side Rack, Vehicle

2510-00-860-0523—Side Rack, Vehicle

2510-01-180-1099—Stake, Vehicle Body

Mandatory Source(s) of Supply: UNKNOWN

Contracting Activity: Defense Logistics Agency Land and Maritime

NSN(s)—Product Name(s): 7520-00-162-6153—Stand, Calendar Pad, for 3″ x 3-3/4″ refill, Gray

7520-00-139-4341—Stand, Calendar Pad, for 3″ x 3-3/4″ refill, Beige NPA: LC Industries, Inc.,

Mandatory Source(s) of Supply: LC Industries, Inc., Durham, NC

Contracting Activity: General Services Administration, New York, NY

NSN(s)—Product Name(s): 7195-01-567-9523—Bulletin Board, Fabric, 36″ x 24″, Plastic Frame

Mandatory Source(s) of Supply: The Lighthouse for the Blind, Inc. (Seattle Lighthouse), Seattle, WA

Contracting Activities: Department of Veterans Affairs, Strategic Acquisition Center, General Services Administration, Philadelphia

NSN(s)—Product Name(s): 6515-00-NIB-0480—Glove Powdered, Perry Orthopaedic

Mandatory Source(s) of Supply: Bosma Industries for the Blind, Inc., Indianapolis, IN

Contracting Activity: Department of Veterans Affairs

Patricia Briscoe,
Deputy Director, Business Operations (Pricing and Information Management).

[FR Doc. 2016-31054 Filed 12-22-16; 8:45 am]

BILLING CODE 6353-01-P